COMMITTEE FOR THE IMPLEMENTATION OF TEXTILE AGREEMENTS

Limitations of Duty-Free Imports of Apparel Articles Assembled in Beneficiary Sub-Saharan African Countries From Regional and Third-Country Fabric

AGENCY: Committee for the Implementation of Textile Agreements (CITA).

ACTION: Publishing the new quantitative limit on duty-free benefits for certain apparel assembled in Sub-Saharan Africa.

DATES: The new limitations became effective February 3, 2026.

FOR FURTHER INFORMATION CONTACT: Thomas Newberg, International Trade Specialist, Office of Textiles and Apparel, U.S. Department of Commerce, (202)-482-7578.

SUPPLEMENTARY INFORMATION:

Authority: Title I, Section 112(b)(3) of the Trade and Development Act of 2000 (TDA 2000), Public Law (P.L.) 106-200, as amended by Division B, Title XXI, section 3108 of the Trade Act of 2002, P.L. 107-210; Section 7(b)(2) of the AGOA Acceleration Act of 2004, P.L. 108-274; Division D, Title VI, section 6002 of the Tax Relief and Health Care Act of 2006 (TRHCA 2006), P.L. 109-432, and section 1 of The African Growth and Opportunity Amendments (P.L. 112-163), August 10, 2012; Presidential Proclamation 7350 of October 2, 2000 (65 FR 59321); Presidential Proclamation 7626 of November 13, 2002 (67 FR 69459); Title I, Section 103(b)(2) and (3) of the Trade Preferences Extension Act of 2015, P.L. 114-27, June 29, 2015; and Division I, Section 5019 of the Consolidated Appropriations Act, 2026 (P.L. 119-75).

Title I of TDA 2000 provides for duty- and quota-free treatment for certain textile and apparel articles imported from designated beneficiary sub-Saharan African countries. Section 112(b)(3) of TDA 2000 provides duty-free treatment for apparel articles wholly assembled in one or more beneficiary sub-Saharan African countries from fabric wholly formed in one or more beneficiary sub-Saharan African countries from yarn originating in the United States or one or more beneficiary sub-Saharan African countries or former beneficiary sub-Saharan African countries, subject to quantitative limitations. This preferential treatment is also available for apparel articles assembled in one or more lesser-developed beneficiary sub-Saharan African countries, regardless of the country of origin of the fabric used to make such articles, subject to quantitative limitation. P.L. 119-75 extended preferential treatment under these programs through December 31, 2026.

The Consolidated Appropriations Act, 2026 provides that the quantitative limitation will be an amount not to exceed seven percent of the aggregate square meter equivalents of all apparel articles imported into the United States in the preceding 12-month period for which data are available. See Section 112(b)(3)(A)(ii)(I) of TDA 2000, as amended by Section 5019(a)(1)(B)(ii) of the Consolidated Appropriations Act, 2026. Of this overall amount, apparel imported during the same period under the special rule for lesser-developed countries is limited to an amount not to exceed 3.5 percent of all apparel articles imported into the United States in the preceding 12-month period for which data are available. See Section 112(b)(3)(B)(ii)(II) of TDA 2000, as amended by Section 5019(a)(1)(B)(iii) of the Consolidated Appropriations Act, 2026. CITA calculated these quantitative limitations by prorating imports on a monthly basis to account for the lapse in authorization for this treatment from October 1, 2025 to February 2, 2026. Per Section 5019(a)(2) of the Consolidated Appropriations Act, 2026, qualifying apparel imported during the lapse in authorization (from October 1, 2025 to February 2, 2026) is eligible for such preferential treatment upon an appropriate request for liquidation or reliquidation to United States Customs and Border Protection. Presidential Proclamation 7350 of October 2, 2000 directed CITA to publish the aggregate quantity of imports allowed during each 12-month period in the Federal Register.

For the period beginning on February 3, 2026, and extending through September 30, 2026, the aggregate quantity of imports eligible for preferential treatment under these provisions is 1,046,888,893 square meters equivalent. Of this amount, 523,444,446 square meters equivalent is available to apparel articles imported under the special rule for lesser-developed countries. Apparel articles entered in excess of these quantities will be subject to otherwise applicable tariffs.

These quantities are calculated using the aggregate square meter equivalents of all apparel articles imported into the United States, derived from the set of Harmonized System lines listed in the Annex to the World Trade Organization Agreement on Textiles and Clothing (ATC), and the conversion factors for units of measure into square meter equivalents used by the United States in implementing the ATC.

Joshua Kroon,
Chairman, Committee for the Implementation of Textile Agreements.

[FR Doc. 2026-02852 Filed 2-11-26; 8:45 am]

BILLING CODE P